ENVIRONMENTAL PROTECTION AGENCY

[FRL-7996-6]

Science Advisory Board (SAB) Staff Office; Notification of Multiple Upcoming Teleconferences of the Science Advisory Board Ecological Processes and Effects Committee, Arsenic Review Panel, and the Second Generation Model Advisory Panel

AGENCY: Environmental Protection Agency (EPA).

ACTION: Notice.

SUMMARY: The EPA Science Advisory Board (SAB) Staff Office announces three upcoming public teleconferences of the:

(1) SAB Ecological Processes and Effects Committee to prepare for a review of the EPA Region 6 Geographic Information System Screening Tool;

(2) The SAB Arsenic Review Panel to discuss and reach consensus its draft report Advisory on EPA's Assessments of Carcinogenic Effects of Organic and Inorganic Arsenic; and

(3) The SAB Second Generation Model Advisory Panel to discuss potential revisions to its interim draft comments on the model.

DATES: The dates for the three teleconferences are:

(1) Ecological Processes and Effects Committee on November 30, 2005, from 2 p.m. to 4 p.m. eastern time;

(2) SAB Arsenic Review Panel on December 5, 2005 from 2 to 4:30 p.m Eastern time; and

(3) The SAB Second Generation Model Advisory Panel on December 9, 2005 from 1 p.m. to 3 p.m. eastern time.

FOR FURTHER INFORMATION CONTACT: Members of the public who wish to obtain the teleconference call-in numbers and access codes to participate in the teleconferences may contact the following individuals.

(1) For the SAB Ecological Processes and Effects teleconference, contact Dr. Thomas Armitage, Designated Federal Officer (DFO) by telephone at (202) 343-9995; fax at (202) 233-0643; or e-mail at armitage.thomas@epa.gov.

(2) For the SAB Arsenic Review Panel teleconference, contact Mr. Thomas O. Miller, DFO by telephone at (202) 343-9982 or e-mail at miller.tom@epa.gov.

(3) For the SAB Second Generation Model Advisory Panel teleconference contact Dr. Holly Stallworth, DFO, by telephone at (202) 343-9867 or e-mail at stallworth.holly@epa.gov. General information about the SAB, as well as any updates concerning the teleconferences announced in this notice, may be found on the SAB Web site at: http://www.epa.gov/sab.

SUPPLEMENTARY INFORMATION:

Background

Backround information for each teleconference is provided separately below:

(1) The SAB Ecological Processes and Effects Committee—EPA Region 6 has requested that the SAB conduct a review of the Geographic Information System Screening Tool (GISST). The GISST is an environmental assessment tool developed for considering single media and cumulative impacts for complex decisions, such as those under the National Environmental Policy Act (NEPA). The GISST uses geographic information system coverages and environmental and socioeconomic data to provide screening level assessments of the potential environmental vulnerabilities of project locations or the impacts of specified activities. Decision criteria used in GISST score available data on a scale of one to five, with higher scores representing higher potential environmental vulnerability or concern. GISST may be used by decision-makers to help prioritize project locations and alternatives actions. EPA Region 6 is seeking comment from the SAB on the validity of the GISST methodology, the defensibility of the GISST results, and the usefulness of the GISST, particularly within the NEPA process. EPA Region 6 is also interested in making the GISST more user-friendly, and is seeking comments on further enhancements to the GISST. In a Federal Register Notice published on September 22, 2005 (70 FR 55620-55621), the SAB Staff Office announced that it was augmenting the expertise on the SAB Ecological Processes and Effects Committee to form the Geographic Information System Screening Tool Review Panel. The SAB Staff Office also announced that a meeting of the Panel would be held on December 7-8, 2005 to review the GISST. The GISST Review Panel will meet with EPA Region 6 representatives by teleconference on November 30, 2005 to discuss the charge and agenda for the upcoming review meeting.

(2) The SAB Arsenic Review Panel—The purpose of this teleconference is to discuss and reach consensus on the draft Advisory on EPA's Assessments of Carcinogenic Effects of Organic and Inorganic Arsenic: An Advisory Report of the U.S. EPA Science Advisory Board. Background on this issue was provided in two Federal Register Notices published on February 23, 2005 (70 FR 8803-8804) and July 26, 2005 (70 FR 43144-43145). Human exposure to arsenic compounds can occur through various environmental media by their use as pesticides (e.g., dessicants/defoliants, wood preservatives) or from industrial wastes. EPA regulates environmental exposures to arsenic compounds pursuant to requirements of several laws (e.g., the Safe Drinking Water Act; the Federal Insecticide, Fungicide, and Rodenticide Act; and the Food Quality Protection Act). EPA asked the SAB to provide advice on scientific issues underlying the Agency's assessments of the carcinogenic potential of arsenic compounds. In response to EPA's request, the SAB Staff Office formed an Ad Hoc Panel to review relevant background data and to consider the underlying scientific questions. As a result the Panel drafted an advisory report to the EPA Administrator to respond to the EPA charge. That draft report will be the focus of the December 5, 2005 telephone conference meeting of the Panel.

(3) The SAB Second Generation Model Advisory Panel was discussed in an earlier Notice published on July 9, 2004 (69 FR 41474-41475). Subsequent Notices published on November 18, 2004 (69 FR 67579-67580), January 6, 2005 (70 FR 1245-1246) and March 2, 2005 (70 FR 10089-10090) provided notices of a December 2, 2004 teleconference, a February 4, 2005 face-to-face meeting, and April 1 and May 6, 2005 teleconferences respectively. Additional background material on the Second Generation Model may be found at: http://www.epa.gov/air/sgm-sab.html. The upcoming teleconference to be held on December 9 will provide panelists an opportunity to discuss potential revisions to their Interim Draft Comments posted at http://www.epa.gov/sab/pdf/sgm_07-21-05_interim_draft.pdf. For technical information on the Second Generation Model contact Michael Shelby, EPA Office of Atmospheric Programs, by telephone at (202) 343-9440 or e-mail shelby.michael@epa.gov.

Availability of Meeting Materials

Pursuant to the Federal Advisory Committee Act, Public Law 92-463, notice is hereby given that the SAB will hold the three public teleconferences on the dates and times provided above. Rosters of the Subcommittee and Panel members, their biosketches, the teleconference agendas, and the charges to the Subcommittee and Panels will be posted on the SAB Web site http://www.epa.gov/sab prior to the teleconference. Additional materials for each teleconference are described below.

(1) The EPA Region 6 GIS Screening Tool (GISST) User's Manual is available at the following URL address: http://www.epa.gov/earth1r6/6en/xp/enxp2a3.htm.

(2) The draft report that is the subject of the SAB Arsenic Review panel meeting is available on the SAB Web site at: http://www.epa.gov/sab. EPA's Toxicological Review of Inorganic Arsenic and related background information on inorganic arsenic may be found at: http://www.epa.gov/waterscience/sab/. The technical contact for the above information on inorganic arsenic is Dr. Elizabeth Doyle, (202) 566-0056, of the Office of Water. EPA's assessment for organic arsenic, entitled Science Issue Paper: Cancer Mode of Action of Cacodylic Acid (Dimethylarsinic Acid, DMAV and Recommendations for Dose Response Extrapolation and other related background information on organic arsenic may be found at: http://www.epa.gov/oppsrrd1/reregistration/cacodylic_acid/. The technical contact for the above information on organic arsenic is Dr. Anna Lowit, (703) 308-4135, of the Office of Pesticide Programs.

(3) Additional background material on the Second Generation Model may be found at: http://www.epa.gov/air/sgm-sab.html. The upcoming teleconference to be held on December 9 will provide panelists an opportunity to discuss potential revisions to their Interim Draft Comments posted at http://www.epa.gov/sab/pdf/sgm_07-21-05_interim_draft.pdf.

Procedures for Providing Public Comment

The SAB Staff Office accepts written public comments of any length, and accommodates oral public comments whenever possible. The SAB Staff Office expects that public statements presented at SAB meetings will not repeat previously submitted oral or written statements. Oral Comments: In general, individuals or groups requesting an oral presentation at a teleconference meeting will usually be limited to three minutes per speaker with no more than a total of fifteen minutes for all speakers. Interested parties should contact the appropriate DFO at the contact information provided above in writing via e-mail at least 10 days prior to the scheduled teleconference to be placed on the public speaker list for the teleconference. Speakers should provide an electronic copy of their comments to the DFO for distribution to interested parties and participants in the meeting. Written Comments: Written comments should be received in the SAB Staff Office at least seven days before scheduled teleconference so that the comments may be made available to the Panel for their consideration. Comments should be supplied to the appropriate DFO at the address and contact information provided above in the following formats: one hard copy with original signature, and one electronic copy via e-mail (acceptable file format: Adobe Acrobat, WordPerfect, Word, or Rich Text files in IBM-PC/Windows 98/2000/XP format).

Meeting Accommodations

Individuals requiring special accommodation to access the teleconference should contact the appropriate DFO at the phone number or e-mail address noted above at least five business days prior to the meeting so that appropriate arrangements can be made.

Dated: November 8, 2005.
Anthony F. Maciorowski,
Associate Director for Science, EPA Science Advisory Board Staff Office.

[FR Doc. 05-22613 Filed 11-14-05; 8:45 am]

BILLING CODE 6560-50-P